NUCLEAR REGULATORY COMMISSION

10 CFR Part 50

[NRC-2011-0237]

Event Reporting Guidelines

AGENCY: Nuclear Regulatory Commission.

ACTION: Draft NUREG; request for comment.

SUMMARY: The U.S. Nuclear Regulatory Commission (NRC or the Commission) is requesting comments on Draft NUREG-1022, Revision 3, “Event Reporting Guidelines: 10 CFR 50.72 and 50.73”. The NUREG-1022 contains guidelines that the NRC staff considers acceptable for use in meeting the event reporting requirements for operating nuclear power reactors. Revision 3 to NUREG-1022 incorporates revisions to the guidelines for the purpose of clarification.

DATES: Submit comments by December 12, 2011. Comments received after this date will be considered if it is practical to do so, but the Commission is able to ensure consideration only for comments received on or before this date.

ADDRESSES: Please include Docket ID NRC-2011-0237 in the subject line of your comments. For additional instructions on submitting comments and instructions on accessing documents related to this action, see “Submitting Comments and Accessing Information” in the SUPPLEMENTARY INFORMATION section of this document. You may submit comments by any one of the following methods:

• Federal Rulemaking Web Site: Go to http://www.regulations.gov and search for documents filed under Docket ID NRC-2011-0237. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, Room O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. Draft NUREG-1022, Revision 3 may be found in the Agencywide Documents Access and Management System (ADAMS) under Accession No. ML11273A065. The NRC staff has also prepared an accompanying “Discussion of Changes” document that may be found in ADAMS under Accession No. ML11068A030.

• Federal Rulemaking Web Site: Public comments and supporting materials related to this notice can be found at http://www.regulations.gov by searching on Docket ID NRC-2011-0237.

FOR FURTHER INFORMATION CONTACT: Timothy Kobetz, Reactor Inspection Branch, Division of Inspections and Regional Support, Office of Nuclear Reactor Regulation, U.S. Nuclear Regulatory Commission, Washington, DC 20555-0001; telephone: 301-415-1932, e-mail: Timothy.Kobetz@nrc.gov.

Background

The NUREG-1022 contains guidelines that the NRC staff considers acceptable for use in meeting the reporting requirements of Title 10 of the Code of Federal Regulations (10 CFR) 50.72 and 10 CFR 50.73. Revision 3 to NUREG-1022 incorporates revisions to the guidelines for the purpose of clarification. The NRC held a public meeting on June 8 and 9, 2010, with internal and external stakeholders to solicit comments on identified issues with NUREG-1022, Revision 2, as well as to identify new issues (see ADAMS Accession Nos. ML101241083 and ML101720219 for additional information). A teleconference meeting with external stakeholders was held on July 19, 2010, to clarify some items listed in the June public meeting summary (see ADAMS Accession No. ML102170301 for additional information). The NRC held another public meeting on October 14, 2010, with internal and external stakeholders to discuss the NRC's disposition of the previously identified items (see ADAMS Accession Nos. ML102630270 and ML102940281 for additional information). In addition, external stakeholders submitted documents to the NRC for consideration. Documents were submitted on July 20, 2010 (ADAMS Accession No. ML101930338), August 8, 2010 (ADAMS Accession No. ML102230269), August 21, 2010 (ADAMS Accession No. ML102360197), and October 29 and November 10, 2010 (ADAMS Accession No. ML103190310). A discussion of the changes in Draft NUREG-1022, Revision 3, may be found in the “Discussion of Changes” document (ADAMS Accession No. ML11068A030). Items in Draft NUREG-1022, Revision 3, that are underlined are new and not found in Revision 2, and items that have a strikethrough are being deleted from Revision 2. Although the underlines and strikethroughs are included in the draft document, the staff's intention is to remove them upon final publication of NUREG-1022, Revision 3. Any changes in the draft that are not discussed in the “Discussion of Changes” document are to be considered editorial in nature and should not be construed to have any regulatory or technical significance.

Backfit Analysis

The NRC has determined that the Backfit Rule, 10 CFR 50.109, “Backfitting,” does not apply to the issuance of the revised guidance in NUREG-1022, Revision 3. The revised guidance in NUREG-1022, Revision 3, addresses compliance with the information collection and reporting requirements in 10 CFR 50.72 and 10 CFR 50.73. The Backfit Rule does not apply to information collection and reporting requirements. Therefore, the NRC has not prepared a backfit analysis for the issuance of Revision 3 to NUREG-1022.

In addition, the NRC has determined that issuance of the revised guidance in NUREG-1022, Revision 3, is not inconsistent with any of the issue finality provisions in 10 CFR part 52, “Licenses, certifications, and approvals for nuclear power plants.” Those issue finality provisions do not apply to information collection and reporting obligations imposed on operators of nuclear power plants. In addition, the issue finality provisions in 10 CFR part 52 do not apply to prospective applicants. As of the issuance of this revised guidance, there are no holders of combined licenses under 10 CFR part 52. Hence, there are no entities currently protected by 10 CFR part 52 issue finality provisions relevant to operation (i.e., the period after the Commission has made the finding under 10 CFR 52.103(g)). Therefore, the NRC is not precluded from issuing NUREG-1022, Revision 3, by any of the 10 CFR Part 52 issue finality provisions.

Regulatory Analysis

The NRC performs regulatory analyses to support many NRC actions that affect nuclear power reactor and nonpower reactor licensees. The regulatory analysis process is intended to be an integral part of the NRC's decisionmaking that systematically provides complete disclosure of the relevant information supporting a regulatory decision. The NUREG/BR-0058, Revision 4, “Regulatory Analysis Guidelines of the U.S. Nuclear Regulatory Commission,” issued September 2004 (ADAMS Accession No. ML042820192) sets forth the NRC's policy for the preparation and the contents of regulatory analyses. As discussed in Section 2.2 of NUREG/BR-0058, Revision 4, mechanisms used by the NRC staff to establish or communicate generic requirements, guidance, requests, or staff positions that would affect a change in the use of resources by its licensees should include an accompanying regulatory analysis. The changes found in Draft NUREG-1022, Revision 3, can be construed as offering new positions or possibly affecting licensee resources. As a result, the staff determined that it should perform a regulatory analysis in order to provide complete disclosure of the relevant information supporting decisions associated with changes found in Draft NUREG-1022, Revision 3. The regulatory analysis can be found in ADAMS under Accession No. ML11116A168.

Public Comments

This document requests comments from interested members of the public by December 12, 2011. After evaluating the comments received, the staff will either reconsider the proposed change or announce the availability of the change in a subsequent document published in the Federal Register (perhaps with some changes as a result of public comments).

Dated at Rockville, Maryland, this 30th day of September 2011.
For the Nuclear Regulatory Commission.
Timothy Kobetz,
Branch Chief, Reactor Inspection Branch, Division of Inspections and Regional Support, Office of Nuclear Reactor Regulation.

[FR Doc. 2011-26419 Filed 10-12-11; 8:45 am]

BILLING CODE 7590-01-P